NATIONAL SCIENCE FOUNDATION

Sunshine Act Meetings

The National Science Board's (NSB) NSB-NSF Commission on Merit Review hereby gives notice of the scheduling of a videoconference meeting for the transaction of National Science Board business pursuant to the National Science Foundation Act and the Government in the Sunshine Act.

TIME AND DATE: Tuesday, November 28, 2023, from 9:00 a.m.-12:00 p.m. Eastern.

PLACE: This meeting will be held in person and by videoconference through the National Science Foundation headquarters at 2415 Eisenhower Ave., Alexandria, VA 22314.

STATUS: One portion open and one portion closed.

MATTERS TO BE CONSIDERED:

Open: 9:00-11:20 a.m. Matters to be considered: Commission Chair's opening remarks; Discussion of High Risk/High Reward research; Discussion of Portfolio Management; and closing remarks.

Closed: 11:20 a.m.-12:00 p.m. Matters to be considered; Chairman's opening remarks regarding the agenda; Commission planning; and Closing remarks.

CONTACT PERSON FOR MORE INFORMATION: Point of contact for this meeting is: (Chris Blair, cblair@nsf.gov), 703/292-7000. Members of the public can observe the public portion of this meeting through a YouTube livestream— https://www.youtube.com/watch?v=VncqrySuhVw.

Ann E. Bushmiller,
Senior Counsel to the National Science Board.

[FR Doc. 2023-26224 Filed 11-24-23; 11:15 am]

BILLING CODE 7555-01-P